DEPARTMENT OF DEFENSE

Department of the Navy

[Docket ID: USN-2022-HQ-0012]

Submission for OMB Review; Comment Request

AGENCY: Department of the Navy, Department of Defense (DoD).

ACTION: 30-Day information collection notice.

SUMMARY: The DoD has submitted to OMB for clearance the following proposal for collection of information under the provisions of the Paperwork Reduction Act.

DATES: Consideration will be given to all comments received by September 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Judge Advocate General's Corps Career Programs Applications and Interviews; OPNAV Form 1070/3; OMB Control Number 0703-0074.

Type of Request: Revision.

JAGC Student Program/Direct Accession Application and Structured Interviews

Number of Respondents: 500.

Responses per Respondent: 1.

Annual Responses: 500.

Average Burden per Response: 3 hours.

Annual Burden Hours: 1,500.

Internship/Externship Program Application (OPNAV 1070/3)

Number of Respondents: 100.

Responses per Respondent: 1.

Annual Responses: 100.

Average Burden per Response: 1 hour.

Annual Burden Hours: 100.

Total

Number of Respondents: 600.

Annual Responses: 600.

Annual Burden Hours: 1,600.

Needs and Uses: This information requirement is needed to determine the eligibility, competitive standing, and scholastic and leadership potential of students and lawyers interested in the U.S. Navy Judge Advocate General's Corps (JAGC) Internship Program, Student Program, or Direct Accessions Program. The online system application is used for both the Student Program and Direct Accession Program. The Student Program offers law students an opportunity to apply for a commission to the JAGC. The Direct Accessions Program offers practicing attorneys the opportunity to apply for a commission to the JAGC. A structured interview is offered to applicants judged to be most competitive for the JAGC Student Program or Direct Accession Program. The Internship/Externship Program Application (OPNAV Form 1070/3), is available throughout the year for programs offered in the summer, fall and spring. The Internship/Externship Program offers law students the opportunity to intern with the JAGC while in law school.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 16, 2022.
Kayyonne T. Marston,
Alternate OSD Federal Register Liaison Officer, Department of Defense.

[FR Doc. 2022-17961 Filed 8-19-22; 8:45 am]

BILLING CODE 5001-06-P